DEPARTMENT OF THE INTERIOR

National Park Service

National Register of Historic Places; Notification of Pending Nominations and Related Actions

Nominations for the following properties being considered for listing or related actions in the National Register were received by the National Park Service before May 9, 2009. Pursuant to section 60.13 of 36 CFR part 60, written comments concerning the significance of these properties under the National Register criteria for evaluation may be forwarded by United States Postal Service, to the National Register of Historic Places, National Park Service, 1849 C St., NW., 2280, Washington, DC 20240; by all other carriers, National Register of Historic Places, National Park Service,1201 Eye St. NW., 8th floor, Washington, DC 20005; or by fax, 202-371-6447. Written or faxed comments should be submitted by June 10, 2009.

J. Paul Loether,
Chief, National Register of Historic Places/National Historic Landmarks Program.

CONNECTICUT

New Haven County

Christ Church New Haven, 70 Broadway, New Haven, 09000420.

INDIANA

Boone County

Traders Point Eagle Creek Rural Historic District, (Eagle Township and Pike Township, Indiana MPS) Roughly between I-865, I-465 and Lafayette Rd., Indianapolis, 09000433.

Traders Point Rural Historic District, (Eagle Township and Pike Township, Indiana MPS) Roughly bounded by IN 334, I-865, Old Hunt Club Rd. & CR 850 E., Zionsville, 09000421.

Clinton County

South Frankfort Historic District, Roughly between Walnut St., Prairie Creek, Meredith and Columbia Sts., Frankfort, 09000422.

Franklin County

Turrell, Salmon, Farmstead, 3051 Snow Hill Rd., West Harrison, 09000423.

Hancock County

Lincoln Park School, (Indiana's Public Common and High Schools MPS) 600 W. N. St., Greenfield, 09000424.

Hendricks County

Adams, Ora, House, 301-303 E. Main St., Danville, 09000425.

Huntington County

Chenoweth-Coulter Farm, 7067 S. Etna Rd., LaFontaine, 09000426.

Lake County

American Sheet and Tin Mill Apartment Building, (Concrete in Steel City: The Edison Concept Houses of Gary Indiana MS) 633 W. 4th Ave., Gary, 09000427.

Jackson-Monroe Terraces Historic District, (Concrete in Steel City: The Edison Concept Houses of Gary Indiana MS) 404-423 Jackson St. and 408-426 Monroe St., Gary, 09000428.

Monroe Terrace Historic District, (Concrete in Steel City: The Edison Concept Houses of Gary Indiana MS) 304-318 Monroe St., Gary, 09000429.

Polk Street Terraces Historic District, (Concrete in Steel City: The Edison Concept Houses of Gary Indiana MS) 404-422 and 437-455 Polk St., Gary, 09000430.

Marion County

Gibson Company Building, 433-447 N. Capitol Ave., Indianapolis, 09000431.

HCS Motor Car Company, 1402 N. Capitol Ave., Indianapolis, 09000432.

Traders Point Eagle Creek Rural Historic District, (Eagle Township and Pike Township, Indiana MPS) Roughly between I-865, I-465 and Lafayette Rd., Indianapolis, 09000433.

Switzerland County

Switzerland County Courthouse, 212 W. Main St., Vevay, 09000435.

Vanderburgh County

USS LST 325 (tank landing ship), 840 LST Dr., Evansville, 09000434.

MASSACHUSETTS

Essex County

Merrimack Associates Building, 25 Locust St., Haverhill, 09000436.

Middlesex County

Franklin School, 7 Stedman Rd., Lexington, 09000437.

Plymouth County

South Middleborough Historic District, Locust, Spruce, and Wareham Sts., Middleborough, 09000438.

MISSOURI

Cape Girardeau County

Vasterling, Julius, Building, (Cape Girardeau, Missouri MPS) 633-637 Broadway, Cape Girardeau, 09000439.

Jackson County

Hotel Otten, (Working Class Hotels at 19th and Main Streets, Kansas City, Missouri MPS) 2018-2020 Main St., Kansas City, 09000440.

St. Louis Independent city

Liggett & Myers Historic District, Roughly bounded by Vandeventer, Park, Thurman and Lafayette Aves., St. Louis, 09000441.

OHIO

Franklin County

Born Capital Brewery Bottling Works, 570 S. Front St., Columbus, 09000442.

Hamilton County

Hotel Metropole, 609 Walnut St., Cincinnati, 09000443.

Lawrence County

Selby Shoe Company Building, 1603 S. 3rd St., Ironton, 09000444.

SOUTH DAKOTA

Davison County

Hill, W.S., House, 520 E. 6th Ave., Mitchell, 09000445.

Fall River County

State Soldiers Home Barn, 2500 Minnekahta Ave., Hot Springs, 09000446.

Hughes County

Pierre Masonic Lodge, 201 W. Capitol Ave., Pierre, 09000447.

Lincoln County

Hudson Boy Scout Cabin, 416 Wheelock, Hudson, 09000448.

Perkins County

Central Perkins County Stockyard and Weighing Station, 1.5 mi. W. of Bison on SD 20, Bison, 09000449.

TEXAS

El Paso County

Mesa Pump Plant, 4901 Fred Wilson Ave., El Paso, 09000450.

Fayette County

Sengelmann Hall and City Meat Market Building, 527 and 529-533 N. Main St., Schulenburg, 09000451.

VIRGINIA

Charlottesville Independent city

Fifeville and Tonsler Neighborhoods Historic District, Bounded by Cherry Ave, to the S., the railway to the N., 4rth St., SW to the E., and Spring St., to the W., Charlottesville, 09000452/

WISCONSIN

Buffalo County

Harmonia Hall, S2119 Co. Hwy. E., Waumandee, 09000453.

WYOMING

Natrona County

Odd Fellows Building, 136 S. Wolcott St., Casper, 09000455.

Sublette County

Sommers Ranch Headquarters Historic District, 734 Co. Rd. 23-110, Pinedale, 09000454.

[FR Doc. E9-12073 Filed 5-22-09; 8:45 am]

BILLING CODE P